DEPARTMENT OF LABOR

Occupational Safety and Health Administration

[Docket No. NRTL2-98]

NSF International, Application for Expansion of Recognition

AGENCY: Occupational Safety and Health Administration (OSHA), Labor.

ACTION: Notice.

SUMMARY: This notice announces the application of NSF International (NSF) for expansion of its recognition to use an additional test standard, and to add two supplemental programs to its current scope of recognition. The notice also presents the Agency's preliminary findings on this application. This preliminary finding does not constitute an interim or temporary approval of this application.

DATES: You may submit comments in response to this notice, or any request for extension of the time to comment, by (1) regular mail, (2) express or overnight delivery service, (3) hand delivery, (4) messenger service, or (5) FAX transmission (facsimile). Because of security-related problems there may be a significant delay in the receipt of comments by regular mail. Comments (or any request for extension of the time to comment) must be submitted by the following dates:

Regular mail and express delivery service: Your comments must be postmarked by May 20, 2004.

Hand delivery and messenger service: Your comments must be received in the OSHA Docket Office by May 20, 2004. OSHA Docket Office and Department of Labor hours of operation are 8:15 a.m. to 4:45 p.m.

Facsimile and electronic transmission: Your comments must be sent by May 20, 2004.

ADDRESSES: Regular mail, express delivery, hand-delivery, and messenger service: You must submit three copies of your comments and attachments to the OSHA Docket Office, Docket NRTL2-93, Room N-2625, U.S. Department of Labor, Occupational Safety and Health Administration, 200 Constitution Avenue, NW., Washington, DC 20210. Please contact the OSHA Docket Office at (202) 693-2350 for information about security procedures concerning the delivery of materials by express delivery, hand delivery and messenger service.

Facsimile: If your comments, including any attachments, are 10 pages or fewer, you may fax them to the OSHA Docket Office at (202) 693-1648. You must include the docket number of this notice, Docket NRTL2-93, in your comments.

Internet access to comments and submissions: OSHA will place comments and submissions in response to this notice on the OSHA Web page http://www.osha.gov. Accordingly, OSHA cautions you about submitting information of a personal nature (e.g., social security number, date of birth). There may be a lag time between when comments and submissions are received and when they are placed on the Web page. Please contact the OSHA Docket Office at (202) 693-2350 for information about materials not available through the OSHA Web page and for assistance in using the Web page to locate docket submissions. Comments and submissions will also be available for inspection and copying at the OSHA Docket Office at the address above.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

FOR FURTHER INFORMATION CONTACT: Bernard Pasquet or Roy Resnick, Office of Technical Programs and Coordination Activities, NRTL Program, Occupational Safety and Health Administration, U.S. Department of Labor, 200 Constitution Avenue, NW., Room N3653, Washington, DC 20210, or phone (202) 693-2110.

SUPPLEMENTARY INFORMATION:

Notice of Application

The Occupational Safety and Health Administration (OSHA) hereby gives notice that NSF International (NSF) has applied for expansion of its current recognition as a Nationally Recognized Testing Laboratory (NRTL). NSF's expansion request covers the use of additional programs and an additional test standard. OSHA's current scope of recognition for NSF may be found on the following informational Web page: http://www.osha-slc.gov/dts/otpca/nrtl/nsf.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational web page for each NRTL, which details its scope of recognition. These pages can be accessed from our web site at http://www.osha-slc.gov/dts/otpca/nrtl/index.html.

The most recent notice published by OSHA for NSF's recognition covered an expansion of recognition, which became effective on April 3, 2003 (68 FR 16311).

The current address of the NSF facility already recognized by OSHA is: NSF International, 789 Dixboro, Ann Arbor, Michigan 48105.

General Background on the Application

NSF has submitted an application, dated October 8, 2003 (see Exhibit 14) to expand its recognition to include one additional test standard. The NRTL Program staff has determined this standard is an “appropriate test standard” within the meaning of 29 CFR 1910.7(c). Therefore, OSHA may approve this test standard for the expansion.

Prior to submitting this application, NSF submitted a request, dated July 31, 2003, (see Exhibit 15) to include several additional programs within its current scope of recognition. NSF has since amended its request to request only the addition of Programs 2 and 5. While we do not ordinarily prepare a Federal Register notice for requests to add programs to a NRTL's scope of recognition, we often incorporate such requests into notices that announce an application for recognition or expansion or renewal of recognition. The present notice follows this approach for NSF's application.

NSF seeks recognition for testing and certification of products for demonstration of conformance to the following test standard: UL 61010A-1. Electrical Equipment For Laboratory Use; Part 1: General Requirements.

Additional Programs

NSF has applied to use supplemental programs 2 and 5, based upon the criteria detailed in OSHA's March 9, 1995 Federal Register notice on the NRTL programs (60 FR 12980, 3/9/95). This notice lists nine (9) programs, eight of which (called the supplemental programs) an NRTL may use to control and audit, but not actually to generate, the data relied upon for product certification. An NRTL's initial recognition will always include the first or basic program, which requires that all product testing and evaluation be performed in-house by the NRTL that will certify the product. NSF's current scope also includes the use of Programs 4, 8, and 9. OSHA's on-site review report on NSF's application for expansion indicates that NSF appears to meet the criteria for use of the following additional supplemental programs: Program 2: Acceptance of testing data from independent organizations, other than NRTLs.

Program 5: Acceptance of testing data from non-independent organizations.

Preliminary Finding on the Application

NSF has submitted an acceptable request for expansion of its recognition as an NRTL. In connection with this request, OSHA performed an on-site review of NSF's NRTL facilities and, in the on-site review report, the assessor recommended the expansion for the additional test standard (see Exhibit 16 in Docket No. NRTL2-98).

Our review of the application file, the assessor's report, and other pertinent documents, indicates that NSF should be capable of using the additional test standard listed above. Accordingly, OSHA has made a preliminary finding that NSF International can meet the requirements, as prescribed by 29 CFR 1910.7, for the expansion of its recognition to include that test standard. This preliminary finding does not constitute an interim or temporary approval of the application.

OSHA welcomes public comments, in sufficient detail, as to whether NSF has met the requirements of 29 CFR 1910.7 for expansion of its recognition as a Nationally Recognized Testing Laboratory. Your comments should consist of pertinent written documents and exhibits. To consider a comment, OSHA must receive it at the address provided above (see ADDRESSES), no later than the last date for comments (see DATES above). Should you need more time to comment, OSHA must receive your written request for extension at the address provided above no later than the last date for comments. You must include your reason(s) for any request for extension. OSHA will limit any extension to 30 days, unless the requester justifies a longer period. We may deny a request for extension if it is frivolous or otherwise unwarranted. You may obtain or review copies of NSF's request, the recommendation on the expansion, and all submitted comments, as received, by contacting the Docket Office, Room N2625, Occupational Safety and Health Administration, U.S. Department of Labor, at the above address. You should refer to Docket No. NRTL2-98, the permanent record of public information on NSF's recognition.

The NRTL Program staff will review all timely comments and, after resolution of issues raised by these comments, will recommend whether to grant NSF's expansion request. The Agency will make the final decision on granting the expansion and, in making this decision, may undertake other proceedings that are prescribed in Appendix A to 29 CFR 1910.7. OSHA will publish a public notice of this final decision in the Federal Register.

Signed at Washington, DC this 22 day of April, 2004.
John L. Henshaw,
Assistant Secretary.

[FR Doc. 04-10165 Filed 5-4-04; 8:45 am]

BILLING CODE 4510-26-P